DEPARTMENT OF COMMERCE

International Trade Administration

[A-570-847]

Notice of Extension of Time Limit for the Preliminary Results of the 2003-2004 Antidumping Duty Administrative Review: Persulfates From the People's Republic of China

AGENCY: Import Administration, International Trade Administration, Department of Commerce.

EFFECTIVE DATE: March 25, 2005.

FOR FURTHER INFORMATION CONTACT: Tisha Loeper-Viti at (202) 482-7425 or Erol Yesin at (202) 482-4037, AD/CVD Operations, Office 8, Import Administration, International Trade Administration, U.S. Department of Commerce, 14th Street and Constitution Avenue, NW., Washington, DC 20230.

SUPPLEMENTARY INFORMATION:

Background

On September 17, 2004, the Department of Commerce (the Department) published a notice of initiation of administrative review of the antidumping duty order on persulfates from the People's Republic of China, covering the period July 1, 2003, through June 30, 2004 (69 FR 56745). The preliminary results for this review are currently due no later than April 2, 2005.

Extension of Time Limit for Preliminary Results

Section 751(a)(3)(A) of the Tariff Act of 1930, as amended (the Act) requires the Department to complete the preliminary results within 245 days after the last day of the anniversary month of an order/finding for which a review is requested and the final results within 120 days after the date on which the preliminary results are published. However, if it is not practicable to complete the review within these time periods, section 751(a)(3)(A) of the Act allows the Department to extend the time limit for the preliminary results to a maximum of 365 days after the last day of the anniversary month of an order/finding for which a review is requested and for the final results to 180 days (or 300 days if the Department does not extend the time limit for the preliminary results) from the date of publication of the preliminary results.

We have determined that it is not practicable to complete the preliminary results of this review within the time limit mandated by the Act due to a complex issue regarding affiliation, the resolution of which will determine the sales subject to review. Therefore, in accordance with section 751(a)(3)(A) of the Act, the Department is fully extending the time period for issuing the preliminary results of review from April 2, 2005, until not later than August 1, 2005, which is the next business day after 365 days from the last day of the anniversary month. The final results continue to be due 120 days after publication of the preliminary results.

Dated: March 18, 2005.
Barbara E. Tillman,
Acting Deputy Assistant Secretary for Import Administration.

[FR Doc. E5-1306 Filed 3-24-05; 8:45 am]

BILLING CODE 3510-DS-P